ENVIRONMENTAL PROTECTION AGENCY

[EPA-HQ-OW-2015-0714; FRL-9955-59-OW]

Notice of a Public Meeting of the National Drinking Water Advisory Council

AGENCY: Environmental Protection Agency (EPA).

ACTION: Notice of a public meeting and location.

SUMMARY: On November 17, 2016, the U.S. Environmental Protection Agency (EPA) announced a meeting of the National Drinking Water Advisory Council (NDWAC) in the Federal Register, as authorized under the Safe Drinking Water Act. This notice announces the location of the meeting (see the ADDRESSES section of this notice). The meeting is scheduled for December 6 and 7, 2016. During this meeting, the NDWAC will focus discussions on developing recommendations for the EPA Administrator on the Lead and Copper National Primary Drinking Water Regulation—Long Term Revisions.

DATES: The meeting on December 6, will be held from 9:30 a.m. to 4:15 p.m.; and December 7, from 8:30 a.m. to noon, eastern time.

ADDRESSES: The public meeting will be held at the U.S. Environmental Protection Agency, William Jefferson Clinton (WJC), 1201 Constitution Avenue NW., Room 1117A & B, Washington, DC 20004.

FOR FURTHER INFORMATION CONTACT: For more information about this meeting or to request written materials, contact Tracey Ward of the Office of Ground Water and Drinking Water, U.S. Environmental Protection Agency, by phone at 202-564-3796 or by email at ward.tracey@epa.gov. For additional information about the NDWAC meeting, please visit http://water.epa.gov/drink/ndwac/ or www.regulations.gov (search for Docket ID No. EPA-HQ-OW-2015-0714).

SUPPLEMENTARY INFORMATION:

Details about Participating in the Meeting: Teleconferencing will be available during the meeting. The number of teleconference connections available for the meeting is limited and will be offered on a first-come, first-served basis. The teleconference number is (1) 866-299-3188; when prompted, enter conference code 202 564-7347.

Dated: November 17, 2016.
Peter Grevatt,
Director, Office of Ground Water and Drinking Water.

[FR Doc. 2016-28263 Filed 11-22-16; 8:45 am]

BILLING CODE 6560-50-P